ENVIRONMENTAL PROTECTION AGENCY

40 CFR Part 52

[EPA-R05-OAR-2011-0502; FRL-9900-30-Region 5]

Approval and Promulgation of Air Quality Implementation Plans; Wisconsin; Disapproval of PM2.5 Permitting Requirements; Correction

AGENCY: Environmental Protection Agency (EPA).

ACTION: Final rule; correction.

SUMMARY: EPA published a final rule in the Federal Register on July 25, 2013, disapproving a Wisconsin State Implementation Plan revision pertaining to permitting requirements relating to particulate matter of less than 2.5 micrometers (PM2.5). An error in the amendatory instruction is identified and corrected in this action.

DATES: Effective Date: This final rule is effective on August 26, 2013.

FOR FURTHER INFORMATION CONTACT: Christos Panos, Environmental Engineer, Attainment Planning and Maintenance Section, Air Programs Branch (AR-18J), Environmental Protection Agency, Region 5, 77 West Jackson Boulevard, Chicago, Illinois 60604, (312) 353-8328, panos.christos@epa.gov.

SUPPLEMENTARY INFORMATION: EPA published a final rule document on July 25, 2013, (78 FR 44881) disapproving revisions to Wisconsin rules NR 400, 404, 405, 406, 407, 408 and 484, submitted by the State on May 12, 2011, because the rule revisions submitted are not consistent with Federal regulations governing state permitting programs. In this disapproval EPA erroneously stated that the revision was being made to 40 CFR 52 Subpart P—Indiana, but the language should have said the revision was being made to Subpart YY—Wisconsin. Therefore, the amendatory instruction is being corrected to reflect the corrected subpart reference.

Correction

In the final rule published in the Federal Register on July 25, 2013, (78 FR 44881), on page 44884, second column, below amendatory instruction 1, “Subpart P—Indiana” is corrected to read: “Subpart YY—Wisconsin”.

Dated: August 12, 2013.
Susan Hedman,
Regional Administrator, Region 5.

[FR Doc. 2013-20416 Filed 8-21-13; 8:45 am]

BILLING CODE 6560-50-P